DEPARTMENT OF HOUSING AND URBAN DEVELOPMENT

[Docket No. FR-4565-N-16]

Notice of Proposed Information Collection: Comment Request; Single Family Premium Collection Subsystem—Upfront

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: August 8, 2000.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8202, Washington, DC 20410.

FOR FURTHER INFORMATION CONTACT: Natalia Yee, Single Family Insurance Operations Division, Department of Housing and Urban Development, 451 7th Street, SW., Washington, DC 20410, telephone (202) 708-1858, Ext. 3506 (this is not a toll free number) for information on the Single Family Premium Collection Subsystem-Upfront (formerly form HUD-27001, Transmittal of Upfront Mortgage Insurance Premium).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Single Family Premium Collection Subsystem—Upfront.

OMB Control Number, if applicable: 2502-0423.

Description of the need for the information and proposed use: The Single Family Premium Collection Subsystem-Upfront (SFPCS-U) replaced the One-Time Mortgage Insurance Premium System which lenders used to remit Upfront Mortgage Insurance Premiums using funds obtained from the mortgagor during the closing of the mortgage transaction at settlement. The form HUD-27001, Transmittal of Upfront Mortgage Insurance Premium, is now obsolete. However, the information collection is still in effect. SFPCS-U strengthens HUD's ability to manage and process single family mortgage insurance premium collections and corrections for the majority of insured single family mortgages. It also improves data integrity for the Single Family Mortgage Insurance Program. FHA approved lenders use versions of Mellon's Telecash and HUD Mortgage Premium Connection (HUD-MPC) software for all transmissions with SFPCS-U. The authority for this collection of information is specified in 24 CFR 203.283 and 24 CFR 203.284. The collection of information is also used in calculating refunds due to former FHA mortgagors when they apply for homeowner refunds of the unearned portion of the mortgage insurance premium, 24 CFR 203.283, as appropriate. Without this information the premium collection/monitoring process would be severely impeded, and program data would be unreliable. In general, lenders use the new software to remit the upfront premium through SFPCS-U to obtain mortgage insurance for the homeowner.

Agency form numbers, if applicable: Not applicable.

Estimation of the total numbers of hours needed to prepare the information collection including number of respondents, frequency of response, and hours of response: The public reporting burden for this collection of information is estimated to average 0.5 hours per response, including the time for reviewing instruction, searching existing data sources, gathering and maintaining the data needed, and completing and reviewing the collecting of information. The burden of completing the form will be eliminated. Lenders will be able to key the information online or have their computer transmit the information. The number of respondents is 3,378 and the frequency of response is on occasion, that is, a mortgage closing. Since remittances are made through the Automated Clearinghouse, the upfront remittance is submitted electronically and there is no paperwork to complete and mail in.

Status of the proposed information collection: Reinstatement without change of a previously approved collection.

Authority: The Paperwork Reduction Act of 1995, 44 U.S.C., Chapter 35, as amended.

Dated: May 30, 2000.
William C. Apgar,
Assistant Secretary for Housing-Federal Housing Commissioner.

[FR Doc. 00-14522 Filed 6-8-00; 8:45 am]

BILLING CODE 4210-27-M